LEGAL SERVICES CORPORATION

Notice to LSC Grantees of Application Process for Subgranting Disaster Relief Grant Funds for Hurricanes Harvey, Irma, and Maria and the 2017 California Wildfires

AGENCY: Legal Services Corporation.

ACTION: Notice of application dates and format for applications to subgrant Disaster Relief Grant Funds for Hurricanes Harvey, Irma, and Maria and the 2017 California Wildfires (“2017 Hurricanes and California Wildfires Grant”).

SUMMARY: The Legal Services Corporation (LSC) is the national organization charged with administering Federal funds provided for civil legal services to low-income people. LSC hereby announces the submission dates for applications to make subgrants of LSC 2017 Hurricanes and California Wildfires Grant funds. LSC is also providing information about where applicants may locate subgrant application forms and directions for providing the information required to apply for a subgrant.

DATES: See SUPPLEMENTARY INFORMATION section for application dates.

ADDRESSES: Legal Services Corporation—Office of Compliance and Enforcement, 3333 K Street NW, Third Floor, Washington, DC 20007-3522.

FOR FURTHER INFORMATION CONTACT: Megan Lacchini, Office of Compliance and Enforcement by email at lacchinim@lsc.gov, or visit the LSC website at http://www.lsc.gov/grants-grantee-resources/grantee-guidance/how-apply-subgrant.

SUPPLEMENTARY INFORMATION: Under 45 CFR part 1627, LSC must publish, on an annual basis, “notice of the requirements concerning the format and contents of [applications to make subgrants of LSC funds] annually in the Federal Register and on its website.” 45 CFR 1627.4(b). This Notice and the publication of the Subgrant Application on LSC's website satisfy § 1627.4(b)'s notice requirement for the LSC 2017 Hurricanes and California Wildfires Grant program. Only current or prospective recipients of LSC funds and applicants for LSC's 2017 Hurricanes and California Wildfires Grants may apply for approval to subgrant these funds.

Considering the emergency nature of the grants, subgrant applications may be submitted before or after a grant applicant receives a 2017 Hurricanes and California Wildfires Grants award notice. Applications received after the grant award notice is issued must be submitted at least 45 days in advance of the subgrant's proposed effective date. LSC grantees may subgrant up to $20,000 in LSC funds without submitting an application for prior approval. 45 CFR 1627.4(a)(1). All subgrants of LSC funds, however, are subject to LSC's regulations, guidelines, and instructions.

Subgrant applications must be submitted at https://lscgrants.lsc.gov. Applicants may access the application under the “Subgrants” heading on their “LSC Grants” home page. Applicants may initiate an application by selecting “Initiate Subgrant Application.” Applicants must then provide the information requested in the LSC Grants data fields, located in the Subrecipient Profile, Subgrant Summary, and Subrecipient Budget screens, and upload the following documents:

• A draft Subgrant Agreement (with the required terms provided in LSC's Subgrant Agreement Template).

Applicants seeking to subgrant to an organization that is not a current LSC grantee must also upload:

• The subrecipient's accounting manual (or letter indicating that the subrecipient does not have one and why);

• The subrecipient's most recent audited financial statement (or letter indicating that the subrecipient does not have one and why);

• The subrecipient's most recent Form 990 filed with the IRS (or letter indicating that the subrecipient does not have one and why);

• The subrecipient's current fidelity bond coverage (or letter indicating that the subrecipient does not have one);

• The subrecipient's conflict of interest policy (or letter indicating that the subrecipient does not have one); and

• The subrecipient's whistleblower policy (or letter indicating that the subrecipient does not have one).

LSC's Subgrant Agreement Template is available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate applications and provide applicants with instructions on any needed modifications to the information, documents, or Draft Agreement provided with the application. The applicants must then upload final and signed subgrant agreements through LSC Grants. This can be done by selecting “Upload Signed Agreement” to the right of the application “Status” under the “Subgrant” heading on an applicant's LSC Grants home page.

For subgrant applications submitted by July 17, 2018, LSC will inform applicants of its decision to approve, disapprove, or request modifications to the subgrant by the end of August 2018. LSC will inform all other applicants of its decision by no later than the subgrant's proposed effective date. 45 CFR 1627.4(b)(2).

Dated: May 21, 2017.
Stefanie Davis,
Assistant General Counsel.

[FR Doc. 2018-11231 Filed 5-24-18; 8:45 am]

BILLING CODE 7050-01-P